DEPARTMENT OF ENERGY

Federal Energy Regulatory Commission

Combined Notice of Filings

Take notice that the Commission has received the following Natural Gas Pipeline Rate and Refund Report filings:

Docket Number: PR21-27-000.

Applicants: Jefferson Island Storage & Hub, L.L.C.

Description: Tariff filing per 284.123(b)(2) + (: Soc update 2021 Feb to be effective 2/5/2021 under PR21-27.

Filed Date: 2/5/2021.

Accession Number: 202102055121.

Comments/Protests Due: 5 p.m. ET 2/26/2021.

Docket Numbers: RP21-458-000.

Applicants: Iroquois Gas Transmission System, L.P.

Description: § 4(d) Rate Filing: 2.4.21 Negotiated Rates—Twin Eagle Resource Management, LLC H-7300-89 to be effective 2/5/2021.

Filed Date: 2/4/21.

Accession Number: 20210204-5060.

Comments Due: 5 p.m. ET 2/16/21.

Docket Numbers: RP21-459-000.

Applicants: Algonquin Gas Transmission, LLC.

Description: § 4(d) Rate Filing: Negotiated Rate—Yankee Gas 510802 Release eff 2-5-2021 to be effective 2/5/2021.

Filed Date: 2/4/21.

Accession Number: 20210204-5076.

Comments Due: 5 p.m. ET 2/16/21.

Docket Numbers: RP21-460-000.

Applicants: Cimarron River Pipeline, LLC.

Description: § 4(d) Rate Filing: Tekas Sale to be effective 2/6/2021.

Filed Date: 2/4/21.

Accession Number: 20210204-5089.

Comments Due: 5 p.m. ET 2/16/21.

Docket Numbers: RP21-461-000.

Applicants: Guardian Pipeline, L.L.C.

Description: § 4(d) Rate Filing: Negotiated Rate PAL Agreements—Clearwater & Mercuria to be effective 2/4/2021.

Filed Date: 2/4/21.

Accession Number: 20210204-5148.

Comments Due: 5 p.m. ET 2/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2021.
Nathaniel J. Davis, Sr.,
Deputy Secretary.

[FR Doc. 2021-02897 Filed 2-11-21; 8:45 am]

BILLING CODE 6717-01-P